DEPARTMENT OF TRANSPORTATION

Federal Aviation Administration

[Policy Statement Numbers ANE-2001-35.13-R0 and ANE-2001-35.31-R0]

Policy for Propeller Level Failure Effects; Policy for Bird Strike, Lightning, and Centrifugal Load Testing for Composite Propeller Blades

AGENCY: Federal Aviation Administration, DOT.

ACTION: Notice of availability; policy statements.

SUMMARY: The Federal Aviation Administration (FAA) announces the availability of policy for propeller-level failure effects and policy for bird strike, lightning, and centrifugal load testing for composite propeller blades.

DATES: The FAA issued policy statement numbers ANE-2001-35.13-R0 and ANE-2001-35.31-R0 on March 12, 2003.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199.

The policy statements are available on the Internet at the following address: http://www.airweb.faa.gov/rgl. If you do not have access to the Internet, you may request a copy of the policies by contacting the individual listed in this section.

SUPPLEMENTARY INFORMATION: The FAA published a notice in the Federal Register on April 29, 2002 (67 FR 21012) to announce the availability of the proposed policies and invite interested parties to comment.

Background

Many new propeller certification programs include composite blades and spinners and electronic controls. Part 35 of Title 14 of the Code of Federal Regulations (14 CFR part 35) does not have explicit safety standards for the substantiation of propellers with composite blades and spinners for bird strike, lightning strike, and centrifugal loads, nor does it address electronic controls and safety assessment. The safety standards for these design features and analyses have been incorporated into the propeller certification basis by issuing special conditions. Until rulemaking is finalized to incorporate these standards into part 35, individual propeller certifications that contain these novel or unusual design features must continue to be addressed with special conditions.

Policy Statement Number ANE-2001-35.13-R0 provides guidance for the development of those special conditions with regard to propeller-level failure effects. Policy Statement Number ANE-2001-35.31-R0 provides guidance for structurally substantiating propellers with composite blades and spinners for bird strike, lightning strike, and centrifugal loads. These policies do not create any new requirement.

Authority: 49 U.S.C. 106(g), 40113, 44701-44702, 44704.

Issued in Burlington, Massachusetts, on March 12, 2003.
Mark C. Fulmer,
Acting Manager, Engine and Propeller Directorate, Aircraft Certification Service.

[FR Doc. 03-6919 Filed 3-21-03; 8:45 am]

BILLING CODE 4910-13-M